DEPARTMENT OF ENERGY

Federal Energy Regulatory Commission

[Docket No. RP01-128-000]

Southern Natural Gas Company; Notice of Proposed Changes to FERC Gas Tariff

December 5, 2000.

Take notice that on November 30, 2000 Southern Natural Gas Company (Southern) tendered for filing to become part its FERC Gas Tariff, Seventh Revised Volume No. 1, the following sheets, with an effective date of January 1, 2001:

Fifty-third Revised Sheet No. 14

Seventy-fourth Revised Sheet No. 15

Fifty-third Revised Sheet No. 16

Seventy-fourth Revised Sheet No. 17

Thirty-seventh Revised Sheet No. 18

Eighth Revised Sheet No. 22

Southern states that the proposed tariff sheets implement the Gas Research Institute's (GRI) revised surcharges for 2001. The 2001 GRI Funding Formula consists of surcharges of (i) .70¢ per Dth applicable to the commodity/usage portion of firm service rates and the interruptible rates and (ii) either 9.0¢ per Dth for high load factor customers or 5.5¢ per Dth for low load factor customers on the demand/reservation component of firm service rates. The 2001 GRI Funding Formula provides for a surcharge of 1.1¢ per Dth on service rates for small customers. The Commission authorized these surcharges in Docket No. RP00-313-00 to be effective January 1, 2001. Consistent with the Commission's order dated September 19, 2000, Southern has proposed these tariff sheets to be effective January 1, 2001.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31434 Filed 12-8-00; 8:45 am]

BILLING CODE 6717-01-M